FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3051.

Name: Adept International Forwarders, Inc.

Address: 145 Hook Creek Boulevard, P.O. Box 820, Valley Stream, NY 11582-0820.

Date Revoked: May 6, 1999.

Reason: Failed to maintain a valid bond.

License Number: 342F.

Name: Circle International, Inc.

Address: 260 Townsend Street, San Francisco, CA 94107.

Date Revoked: September 19, 2001.

Reason: Failed to maintain a valid bond.

License Number: 16377F.

Name: Gen Trading Machinery, Inc. dba GTM Cargo & Logistics, Inc.

Address: 1246 NW 125th Terrace, Sunrise, FL 33323.

Date Revoked: August 5, 2001.

Reason: Failed to maintain a valid bond.

License Number: 14503N.

Name: Hana Worldwide Shipping Co., Inc.

Address: 20435 S. Western Ave., Torrance, CA 90501.

Date Revoked: September 12, 2001.

Reason: Failed to maintain a valid bond.

License Number: 14357N.

Name: Martin Well & Hiland (USA) Inc.

Address: 156-15 146th Ave., Suite 108, Jamaica, NY 11434.

Date Revoked: August 19, 2001.

Reason: Failed to maintain a valid bond.

License Number: 16402N.

Name: Quality Freight International Services, Inc.

Address: 6955 NW 52nd Street, Suite 101, Miami, FL 33166.

Date Revoked: September 3, 2001.

Reason: Failed to maintain a valid bond.

License Number: 16632N.

Name: Trans-World Freight Systems Inc.

Address: 10505 NW 27th Street, Unit #2, Miami, FL 33172.

Date Revoked: September 16, 2001.

Reason: Failed to maintain a valid bond.

Sandra L. Kusumoto,
Director, Bureau of Consumer Complaints and Licensing.

[FR Doc. 01-25559 Filed 10-10-01; 8:45 am].

BILLING CODE 6730-01-P